NATIONAL SCIENCE FOUNDATION

U.S. Chief Financial Officer Council; Grants Policy Committee

ACTION: Notice of open stakeholder Webcast meeting and publication of draft Implementation Plan.

SUMMARY: This notice announces an open stakeholder Webcast meeting sponsored by the Grants Policy Committee (GPC) of the U.S. Chief Financial Officers (CFO) Council.

DATES: The GPC will hold a Webcast meeting on Tuesday, April 21, 2009 from 2-3:30 p.m., Eastern Time. The Webcast will be broadcast live. Relevant meeting materials will be posted on http://www.GPC.gov in advance of the meeting.

ADDRESSES: The GPC April 21st Webcast meeting will be broadcast from and held in Room B-180 of the U.S. Department of Housing and Urban Development (HUD), 451 7th Street SW., Washington, DC 20410. Seating is limited—the first 50 people to respond, and receive confirmation of the response, can be part of the live audience. Both federal and non-federal employees must R.S.V.P. to reserve a seat by contacting Charisse Carney-Nunes at GPCWebcast@nsf.gov. All who have reserved seating must arrive at the HUD building fifteen minutes prior to broadcast (arrive on the North side of the building). You must have a government-issued photo ID to gain access and will have to go through security screening. The GPC encourages non-Federal organizations staffs and members to attend the meeting in person or via Webcast.

Overview: This Webcast will serve several purposes: (1) To update the public on the latest news of the GPC; (2) to discuss topics related to electronic data in the grants community and OMB's latest implementation guidelines regarding the American Recovery and Reinvestment Act 2009 (Recovery Act); and (3) to provide an overview of how Research.gov is implementing new government-wide post-award reporting standards including the Federal Financial Report (FFR) and the Research Performance Progress Report (RPPR). Research.gov is the federal grants management consortium lead for research grants management, offering research information and a menu of grants management services for multiple federal research agencies in one place and providing transparency into federal research spending and results. Webcast presenters will be available for a question and answer period after the presentations.

Further Information About the GPC Webcast: Questions on the Webcast should be directed to Charisse Carney-Nunes, National Science Foundation, 4201 Wilson Boulevard, Arlington, VA 22230; e-mail, GPCWebcast@nsf.gov. Information and materials that pertain to this Webcast meeting, including the call-in telephone number and the agenda will be posted on the Grants Policy Committee's Web site at http://www.GPC.gov on the “Webcasts and Outreach” page. The link to view the Webcast will be posted on this site, along with Webcast instructions. After the meeting, a link to its recording will be posted on http://www.GPC.gov for at least 90 days.

Comment Submission Information: You may submit webcast related questions in advance of the webcast to GPCWebcast@nsf.gov. You may also submit comments during the Webcast meeting via telephone or e-mail. The call-in telephone number, which may be used only DURING the live Webcast, is 202-708-0995. The e-mail address for comments, which should be used only DURING the Webcast is HUDTV@HUD.GOV. After the Webcast, you may submit comments via e-mail through the close of business on Friday, May 1, 2009. The e-mail address for comments before and after the Webcast is GPCWebcast@nsf.gov.

SUPPLEMENTARY INFORMATION: This Webcast meeting has been made possible by the cooperation of the National Science Foundation, HUD, and the GPC.

Webcast Materials: Webcast materials including the agenda, Webcast meeting slides, and feedback form are posted at http://www.GPC.gov on the Webcasts and Outreach page.

Purpose of the Webcast meeting: The purpose of the Webcast meeting is threefold: (1) To update the public on the latest news of the GPC; (2) to discuss topics related to electronic data in the grants community and OMB's latest implementation guidelines regarding the American Recovery and Reinvestment Act 2009 (Recovery Act); and (3) to provide an overview of how Research.gov is implementing new government-wide post-award reporting standards including the Federal Financial Report (FFR) and the Research Performance Progress Report (RPPR). Research.gov is the federal grants management consortium lead for research grants management, offering research information and a menu of grants management services for multiple Federal research agencies in one place and providing transparency into Federal research spending and results. Presenters will be available for a question and answer period after the presentations.

A key purpose of the Webcast meeting is to share information with stakeholders on decisions and requirements related to the Recovery Act and to provide agencies with best practices for implementation of the FFR and PPR. Generally, the purpose of the Webcast is to receive input from stakeholders to inform government efforts as they relate to streamlining and stewardship of Federal policy and practice relating to grants, cooperative agreements, and Federal financial assistance.

Meeting structure and agenda: The April 21st Webcast meeting will have the following structure and agenda:

(1) GPC Update;

(2) Grant Community Information Collection and Dissemination and the Recovery Act;

(3) Overview of how Research.gov is implementing new government-wide post-award reporting standards including the Federal Financial Report (FFR) and the Research Performance Progress Report (RPPR); and

(4) Participants' discussion, questions and comments.

Background: The GPC is a committee of the U.S. Chief Financial Officers (CFO) Council. The Office of Management and Budget (OMB) sponsors the GPC; its membership consists of grants policy subject matter experts from across the Federal Government. The GPC is charged with improving the management of federal financial assistance government-wide. To carry out that role, the committee recommends financial assistance policies and practices to OMB and coordinates related interagency activities. The GPC serves the public interest in collaboration with other Federal Government-wide grants initiatives.

Dated: March 23, 2009.
Thomas N. Cooley,
Director, Office of Budget, Finance and Award Management of the National Science Foundation and Chair of the Grants Policy Committee of the U.S. CFO Council.
Submitted for the National Science Foundation on March 23, 2009.
Suzanne H. Plimpton,
Reports Clearance Officer, National Science Foundation.

[FR Doc. E9-6743 Filed 3-25-09; 8:45 am]

BILLING CODE 7555-01-P